DEPARTMENT OF THE INTERIOR

Bureau of Land Management

[LLORB00000.L17110000.PH0000.LXSS020H0000.15XL1109AF; HAG15-0106]

Notice of Public Meeting

AGENCY: Bureau of Land Management, Interior.

ACTION: Notice of public meeting.

SUMMARY: In accordance with the Federal Land Policy and Management Act and the Federal Advisory Committee Act of 1972, and the U.S. Department of the Interior, Bureau of Land Management (BLM), the Steens Mountain Advisory Council (SMAC) will meet as indicated below:

DATES: April 30, 2015, from 10 a.m. to 4 p.m. and May 1, 2015 from 8:30 a.m. to 1 p.m., at the DoubleTree by Hilton, 300 NW Franklin Avenue, Bend, Oregon. Daily sessions may end early if all business items are accomplished ahead of schedule.

FOR FURTHER INFORMATION CONTACT: Tara Martinak, Public Affairs Specialist, BLM Burns District Office, 28910 Highway 20 West, Hines, Oregon 97738, (541) 573-4519, or email tmartina@blm.gov. Persons who use a telecommunications device for the deaf (TDD) may call the Federal Information Relay Service (FIRS) at 1(800) 877-8339 to contact the above individual during normal business hours. The FIRS is available 24 hours a day, 7 days a week, to leave a message or question with the above individual. You will receive a reply during normal business hours.

SUPPLEMENTARY INFORMATION: The SMAC was initiated August 14, 2001, pursuant to the Steens Mountain Cooperative Management and Protection Act of 2000 (Pub. L. 106-399). The SMAC provides representative counsel and advice to the BLM regarding new and unique approaches to management of the land within the bounds of the Steens Mountain Cooperative Management and Protection Area; recommends cooperative programs and incentives for landscape management that meet human needs; and advises the BLM on maintenance and improvement of the ecological and economic integrity of the area. Agenda items for the April 30-May 1 session may include an update on the Steens Mountain Comprehensive Recreation Plan decision; welcome and orientation for new members; change of Designated Federal Official discussion and update; collaborative processes conversation; and update on the National Landscape Conservation System sign plan and strategy; and, regular business items such as approving the previous meeting's minutes, member round-table, and planning the next meeting's agenda. A public comment period will be available each day of each meeting. The public is welcome to attend all sessions. Unless otherwise approved by the SMAC Chair, the public comment period will last no longer than 30 minutes, and each speaker may address the SMAC for a maximum of five minutes.

Brendan Cain,
Burns District Manager.

[FR Doc. 2015-08583 Filed 4-13-15; 8:45 am]

BILLING CODE 4310-33-P